GENERAL SERVICES ADMINISTRATION

[Notice-PBS-02; Docket No. 2011-0006; Sequence 13]

Notice of Availability of the Draft Environmental Assessment for the Renovation of the Charles F. Prevedel Federal Building and Demolition of Federal Buildings 100, 101, and 102 at the Federal Records Center at Overland, MO

AGENCY: General Services Administration (GSA).

ACTION: Notice of Availability.

SUMMARY: This notice announces the availability, and opportunity for public review and comment, of a draft environmental assessment (EA), that examines the impacts of a proposal by the GSA. The EA considers proposed renovation and demolition actions at the Page Federal Complex in Overland, Missouri. The EA identifies, evaluates, and documents the effects of the GSA renovating the Charles F. Prevedel Building, including the replacement of mechanical systems to meet high performance green building standards, and making needed improvements in parking, security setbacks, and the like; and demolishing Buildings 100,101, and 102 at the Page Federal Complex, which are no longer needed.

DATES: The review period for the Draft EA and other NEPA documents ends Friday, August 19th, 2011. Comments postmarked after this date will be considered to the extent practicable.

ADDRESSES: Comments, or requests for copies of the draft EA, should be sent to Jeremiah Nelson, General Services Administration, 1500 East Bannister Road, Room 2191 (6PTA), Kansas City, MO 64131 or via e-mail to jeremiah.nelson@gsa.gov. Verbal requests for copies of the draft EA or comments on the EA may also be made by calling Jeremiah Nelson at 816-823-5803.

SUPPLEMENTARY INFORMATION: Certain actions by other Federal agencies have left the Page Federal Complex underused, leaving the GSA, which has custody and control of the Page Federal Complex, to determine how best to deal with its excess property. U.S. Army Human Resources Command (HRC) personnel vacated the Page Federal Complex and moved to Fort Knox, Kentucky, under a Defense Base Closure and Realignment (BRAC) directive. Personnel associated with the Military Personnel Records Center are moving from the Page Federal Complex to a new facility in Fort Knox, Kentucky.

On September 8, 2005, the BRAC Commission recommended numerous realignment and closure actions for domestic military installations. The recommendations became law on November 9, 2005, and they must be implemented as provided for in the Defense Base Closure and Realignment Act of 1990 (Pub. L. 101-510, as amended). BRAC Commission Recommendation Number 143 (BRAC 143) requires the realignment of Army HRC leased facilities in Alexandria, Virginia; Indianapolis, Indiana; and St. Louis, Missouri; to Fort Knox, Kentucky. Approximately 1,583 HRC personnel that occupied space in the Page Federal Complex in Overland, Missouri, were relocated to Fort Knox (DoD 2005).

The National Archives and Records Administration (NARA), which is the nation's record keeper for documents and materials created in the course of business conducted by the U.S. government, vacated the Military Personnel Records Center and the Civilian Personnel Records Center, also in St. Louis, to establish a new facility in St. Louis which complies with NARA's 2009 record storage standards—a move that involves approximately 800 personnel associated with the two record centers.

The Prevedel Building was constructed in 1990, and structurally is in very good condition. Minimal seismic improvements are necessary to meet current standards. Replacing the building's mechanical systems would result in a reduction of energy usage and promote the government's commitment to achieve the mandates set forth in Executive Order (EO) 13514 (Federal Leadership in Environmental, Energy, and Economic Performance).

Furthermore, a 2008 U.S. Government Accountability Office (GAO) report cites the Federal government's overreliance on costly, long-term leasing (GAO 2008). In that report, GAO recommends that agencies' reliance on leased space for long-term needs could be reduced when ownership would be less costly than leasing. Reinvesting in the Prevedel Building (through mechanical systems renovation and replacement) would promote the backfill of the remaining approximately 436,153 square feet (SF) of vacant space in the building by Federal agencies currently housed in leased space in the St. Louis area. An analysis performed on alternatives revealed that continuing to lease space would result in a higher long-term cost to the government than using Federally owned space in the Prevedel Building. Alteration of the Prevedel Building is the most cost efficient solution, and it would comply with EO 13514 and GAO's recommendations.

This EA is being prepared pursuant to the National Environmental Policy Act of 1969 (NEPA), and regulations implementing NEPA issued by the Council on Environmental Quality (40 CFR Parts 1500-1508), GSA (ADM 1095.1F). GSA will consider comments received (see dates and addresses, above) in finalizing the EA. Based on the final EA, GSA will determine whether to prepare an environmental impact statement or issue a finding of no significant impact if appropriate for the proposed action.

Dated: June 30, 2011.
Kevin D. Rothmier,
Director of Portfolio Management, U.S. General Services Administration, PBS, Heartland Region.

[FR Doc. 2011-17366 Filed 7-11-11; 8:45 am]

BILLING CODE 6820-CG-P